DEPARTMENT OF ENERGY

Federal Energy Regulatory Commission

[Docket No. EC03-21-000, et al.]

Pacific Gas and Electric Company, et al.; Electric Rate and Corporate Filings

December 3, 2002.

The following filings have been made with the Commission. The filings are listed in ascending order within each docket classification.

1. Pacific Gas and Electric Company California Independent System Operator Corporation

[Docket No. EC03-21-000]

Take notice that on November 25, 2002, Pacific Gas and Electric Company and the California Independent System Operator Corporation filed with the Federal Energy Regulatory Commission (Commission) a joint application pursuant to section 203 of the Federal Power Act seeking authorization for PG&E's sale of certain transmission facilities under FERC jurisdiction to Turlock Irrigation District.

Comment Date: December 16, 2002.

2. Idaho Power Company and IDACORP Energy, L.P.

[Docket No. EC03-24-000]

Take notice that on November 27, 2002, Idaho Power Company (Idaho Power) and IDACORP Energy, L.P. (IELP, collectively, Applicants) filed with the Federal Energy Regulatory Commission (Commission) an Application for Commission Approval of Disposition of Jurisdictional Facilities under Section 203 of the Federal Power Act. The jurisdictional facilities that are the subject of the Application are certain wholesale power sales and transmission service transactions (Non-Ops Transactions) between Idaho Power and various counterparties. By their Application, Applicants seek Commission approval for the assignment of the Non-Ops Transactions from Idaho Power to IELP.

Comment Date: December 18, 2002.

3. HC Power Marketing LLC

[Docket Nos. EC03-26-000 and ER02-388-001]

Take notice that on November 27, 2002, HC Power Marketing LLC (Applicant) filed with the Federal Energy Regulatory Commission (Commission) an application for authorization pursuant to section 203 of the Federal Power Act and notice of change in status with respect to the transfer of the upstream ownership of Applicant from Blue Natsource Holding Co., Inc. (Natsource Holding) to Natsource LLC (Natsource).

Comment Date: December 18, 2002.

4. EPCOR Merchant and Capital (US) Inc., EPCOR Power Development, Inc., EPDC, Inc., Frederickson Power L.P.

[ER02-783-001, ER02-852-001, ER02-855-001, ER01-2262-003]

Take notice that on November 27, 2002, EPCOR Merchant and Capital (US) Inc. (EMC), EPCOR Power Development, Inc. (EPCOR Power), EPDC, Inc. (EPDC), and Frederickson Power L.P. (Frederickson Power) (collectively, the Applicants) filed with the Federal Energy Regulatory Commission (Commission) their Notice of Change in Status under their market-based rate tariffs on file with the Commission to address the proposed intracorporate reorganization under a to-be-formed U.S. parent, EPCOR Energy (U.S.) G.P.

Comment Date: December 18, 2002.

5. Central Maine Power Company

[Docket No. ER02-2363-001]

Please take notice that on November 27, 2002, Central Maine Power Company (CMP) submitted the Support Service Agreement between CMP and Maine Yankee Atomic Power Company, corrected as to Order 614 markings, and designated as Original Rate Schedule FERC No. 114, First Revised, with an effective date of January 1, 2002.

Comment Date: December 18, 2002.

6. Southern California Edison Company

[Docket No. ER02-2521-001]

Take notice that on November 29, 2002, Southern California Edison Company (SCE) tenders for filing supplemental information requested by FERC Staff in a letter dated October 29, 2002. In addition, SCE tenders for filing revised rate sheets (Revised Sheets) to the Service Agreements originally filed in this docket on August 30, 2002.

SCE respectfully requests the Commission to assign an effective date of August 10, 2002. Copies of this filing were served upon the Federal Energy Regulatory Commission and those parties listed in the intervention filed by CDWR.

Comment Date: December 20, 2002.

7. Midwest Independent Transmission System Operator, Inc.

[Docket No. ER02-2541-001]

Take notice that on November 29, 2002, the Midwest Independent Transmission System Operator, Inc. (Midwest ISO) tendered for filing proposed revisions to its Open Access Transmission Tariff (OATT), FERC Electric Tariff, Second Revised Volume No. 1, in compliance with the Commission's Order in Midwest Independent Transmission System Operator Inc., 101 FERC 61,106. The Midwest ISO has requested an effective date of November 4, 2002.

The Midwest ISO seeks waiver of the Commission's regulations, 18 CFR 385.2010 with respect to service on all required parties. The Midwest ISO has electronically served a copy of this filing upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: December 20, 2002.

8. San Diego Gas & Electric Company

[Docket No. ER03-217-000]

Take notice that on November 25, 2002, San Diego Gas & Electric Company (SDG&E) tendered for filing its Service Agreements numbers 17 and 18 to its FERC Electric Tariff, First Revised Volume No. 6, two interconnection agreements. Both agreements relate to the interconnection to SDG&E's transmission system of a new generation plant owned by Termoelectrica de Mexicali, S. de R.L. de C.V (TDM-MX), and interconnected with SDG&E's electrical system via a tieline owned by Termoelectrica U.S., LLC (TDM-US) (collectively referred to as TDM). The plant, with a capacity of 650 megawatts, is being constructed on an expedited basis to meet electricity demand in the Western United States, Baja California, Mexico, and the San Diego Basin. It is located near Mexicali, Mexico, and is expected to begin commercial operation on or about April 7, 2003, although the in-service date for certain Interconnection Facilities is November 23, 2002. Those facilities are needed to provide interconnection services required to accommodate TDM's backfeed power requirements, not being provided by SDG&E, from SDG&E's transmission system, to accommodate generation construction activities.

Service Agreement No. 17 is the Interconnection Facilities Agreement dated November 20, 2002 between SDG&E and TDM, under which SDG&E will construct, operate and maintain the proposed interconnection facilities. Service Agreement No. 18, the Interconnection Agreement between SDG&E and TDM, dated November 20, 2002, establishes interconnection and operating responsibilities and associated communications procedures between the parties.

SDG&E requests that the Commission waive the sixty-day notice requirement and establish an effective date of November 22, 2002 for both agreements.

SDG&E states that copies of the filing have been served on Termoelectrica de Mexicali S. de R.L. de C.V., Termoelectrica U.S., LLC, and on the California Public Utilities Commission.

Comment Date: December 16. 2002.

9. California Independent System Operator Corporation

[Docket No. ER03-218-000]

Take notice that on November 25, 2002, the California Independent System Operator Corporation (ISO) tendered for filing with the Federal Energy Regulatory Commission (Commission) Amendment No. 47 to the ISO Tariff. The purpose of Amendment No. 47 is to modify the Tariff to be consistent with the provisions of the Transmission Control Agreement (TCA), as amended to accommodate the Cities of Anaheim, Azusa, Banning, and Riverside, California (together Southern Cities), becoming Participating Transmission Owners.

The ISO states that this filing has been served on the Public Utilities Commission of the State of California, the California Energy Commission, the California Electricity Oversight Board, and all parties, including the signatories to the TCA, with effective Scheduling Coordinator Agreements under the ISO Tariff.

The ISO is requesting waiver of the 60-day notice requirement to allow Amendment No. 47 be made effective January 1, 2003.

Comment Date: December 16, 2002.

10. Southern California Edison Company

[Docket No. ER03-228-000]

Take notice that on November 27, 2002, Southern California Edison Company (SCE) tendered for filing revised rate sheets (Revised Sheets) to the Interconnection Facilities Agreement (Interconnection Agreement) between SCE and Cabazon Wind Partners, LLC (Cabazon), Service Agreement No. 51, under SCE's Wholesale Distribution Access Tariff (WDAT), FERC Electric Tariff Original Volume No. 5.

The Revised Sheets amend the Interconnection Agreement to include the scope and cost of additional work identified by SCE after the Interconnection Agreement was executed and to revise the ITCC factor from 0.34 to 0.27 for payments due on or after July 1, 2002, as a result of changes in the depreciation provisions of the Internal Revenue Code.

SCE respectfully requests the Revised Sheets become effective on November 28, 2002. Copies of this filing were served upon the Public Utilities Commission of the State of California and Cabazon.

Comment Date: December 18, 2002.

10. Armstrong Energy Limited Partnership, LLLP

[Docket No. ER03-229-000]

Take notice that on November 27, 2002, Armstrong Energy Limited Partnership, LLLP ( Armstrong or the Company) respectfully tendered for filing a rate schedule for reactive power and voltage control from Generation Sources Service.

The Company respectfully requests a waiver of the Commission's regulations and permit an effective date of December 1, 2002. Copies of the filing were served upon the PJM Interconnection, L.L.C., Virginia State Corporation Commission, and the North Carolina Utilities Commission.

Comment Date: December 18, 2002.

11. Bridgeport Energy LLC

[Docket No. ER03-230-000]

Take notice that on November 27, 2002, Bridgeport Energy LLC. (Bridgeport) tendered for filing a Notice of Termination of Service Agreement No. 1 under its FERC Electric Tariff No. 1. The Service Agreement at issue is an Installed Capability Purchase and Sale Agreement (ICAP Agreement) between Bridgeport and Northeast Utilities Service Company (NU), as agent for Holyoke Power and Electric Company (Holyoke), that was executed on July 2, 1998 and accepted for filing on October 8, 1998. Thereafter, the ICAP Agreement was assigned to Select Energy Company (Select). Bridgeport and Select have mutually agreed to terminate the ICAP Agreement, effective November 13, 2002. Copies of the filing have been served upon Select.

Comment Date: December 18, 2002.

12. American Transmission Company LLC

[Docket No. ER03-231-000]

Take notice that on November 27, 2002, American Transmission Company LLC (ATCLLC) tendered for filing a revised Generation-Transmission Interconnection Agreement between ATCLLC and Riverside Energy Center, LLC (Revised Service Agreement No. 234) consisting of a revised Exhibit 11 and otherwise remaining as originally filed and accepted by the Commission by letter order dated June 11,2002. ATCLLC requests retention of the original effective date of April 7, 2002.

Comment Date: December 18, 2002.

13. PJM Interconnection, L.L.C.

[Docket No. ER03-232-000]

Take notice that on November 27, 2002, PJM Interconnection, L.L.C. (PJM), submitted for filing revisions o the PJM Open Access Transmission Tariff (PJM Tariff) and the Amended and Restated Operating Agreement of PJM Interconnection, L.L.C. (Operating Agreement) to (a) incorporate Commission-approved changes made to the Fourth Revised Volume 1 of the PJM Tariff and the First Revised Operating Agreement establishing the PJM Economic Load Response Program into the currently effective Fifth Revised Volume 1 of the PJM Tariff and the Second Revised Operating Agreement and (b) to delete language the Commission rejected but that inadvertently was reinserted into the Fifth Revised Volume I of the PJM Tariff.

Consistent with the Commission-approved effective date for the PJM Economic Load Response Program, PJM requests an effective date of June 1, 2002 for the new PJM Economic Load Response Program sheets. Consistent with the effective date of the Fifth Revised Volume 1 of the PJM Tariff, PJM requests an effective date of April 1, 2002 for First Revised Sheet No. 216A which merely deletes language that erroneously was included in the Fifth Revised Volume 1 of the PJM Tariff.

Copies of this filing have been served on all PJM members, and the state electric utility commissions in the PJM region.

Comment Date: December 18, 2002.

14. PJM Interconnection, L.L.C.

[Docket No. ER03-233-000]

Take notice that on November 27, 2002 PJM Interconnection, L.L.C. (PJM), submitted for filing sixteen executed interconnection service agreements (ISAs) and interim interconnection service agreements (Interim ISAs) between PJM and E.I. du Pont de Nemours and Company, Exelon Corporation, Mantua Creek Generating Company, LP, PSEG Fossil LLC, Conectiv Delmarva Generation, Inc., Conectiv Mid-Merit, Inc., PPL Brunner Island, L.L.C., Calpine Construction Finance Company, L.P., Constellation Power Source Generation, Inc., Delaware Municipal Electric Corporation, PSEG Power, LLC, Northampton Generating Company, L.P., PEI Power II L.L.C., Lebanon Methane Recovery, Inc., and eight notices of cancellation of certain ISAs and Interim ISAs that have been superseded.

PJM requests a waiver of the Commission's 60-day notice requirement to permit the effective dates agreed to by the parties to the agreements. Copies of this filing were served upon each of the parties to the agreements and the state regulatory commissions within the PJM region.

Comment Date: December 18, 2002.

15. New England Power Pool

[Docket No. ER03-234-000]

Take notice that on November 29, 2002, the New England Power Pool (NEPOOL) Participants Committee filed for acceptance materials to permit NEPOOL to expand its membership to include Great Bay Power Marketing, Inc. (GBPMI). The Participants Committee requests a December 1, 2002 effective date for commencement of participation in NEPOOL by GBPMI.

The Participants Committee states that copies of these materials were sent to the New England state governors and regulatory commissions and the Participants in NEPOOL.

Comment Date: December 18, 2002.

Standard Paragraph

Any person desiring to intervene or to protest this filing should file with the Federal Energy Regulatory Commission, 888 First Street, NE., Washington, DC 20426, in accordance with Rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-31186 Filed 12-10-02; 8:45 am]

BILLING CODE 6717-01-P